DEPARTMENT OF EDUCATION

[Docket No.: ED-2015-ICCD-0093]

Agency Information Collection Activities; Comment Request; Guaranty Agencies Security Self-Assessment and Attestation

AGENCY: Federal Student Aid (FSA), Department of Education (ED).

ACTION: Notice.

SUMMARY: In accordance with the Paperwork Reduction of 1995 (44 U.S.C. Chapter 3507(j)), ED is requesting the Office of Management and Budget (OMB) to conduct an emergency review of a new information collection.

DATES: Approval by the OMB has been requested by July 20, 2015. A regular clearance process is also hereby being initiated. Interested persons are invited to submit comments on or before September 14, 2015.

ADDRESSES: Comments submitted in response to this notice should be submitted electronically through the Federal eRulemaking Portal at http://www.regulations.gov by selecting Docket ID number ED-2015-ICCD-0093 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E103, Washington, DC 20202.

FOR FURTHER INFORMATION CONTACT: For specific questions related to collection activities, please contact Beth Grebeldinger, 202-377-4018.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Guaranty Agencies Security Self-assessment and Attestation.

OMB Control Number: 1845—NEW.

Type of Review: A new information collection.

Respondents/Affected Public: Private Sector, State, Local and Tribal Governments.

Total Estimated Number of Annual Responses: 28.

Total Estimated Number of Annual Burden Hours: 8,848.

Abstract: The E-Government Act (Pub. L. 107-347) passed by the 107th Congress and signed into law by the President in December 2002 recognized the importance of information security to the economic and national security interests of the United States. Title III of the E-Government Act, entitled the Federal Information Security Management Act (FISMA) requires each federal agency to develop, document, and implement an agency-wide program to provide information security for the information and information systems that support the operations and assets of the agency, including those provided or managed by another agency, contractor, or other source. FISMA, along with the Paperwork Reduction Act of 1995 and the Information Technology Management Reform Act of 1996 (Clinger-Cohen Act), explicitly emphasizes a risk-based policy for cost-effective security.

FSA is initiating a formal assessment program of the Guaranty Agencies that will ensure the continued confidentiality and integrity of data entrusted to FSA by students and families. The assessment will identify security deficiencies based on the Federal standards described in the National Institute of Standards and Technology (NIST) publications. The comprehensive self-assessment links all questions with a NIST control. This collection of information impacts 28 independently owned Guaranty Agencies (GAs) dispersed throughout the U.S. Each agency is under signed agreement with the Department of Education to service Federal Family Education Loans that have been turned over from the lending institutions to the GAs for the purpose of student loan collections.

Additional Information: This is a request for an emergency clearance to enable Federal Student Aid (FSA) to ensure that all data collected and managed by Guaranty Agencies (GAs) in support federal student financial aid programs is secure. FSA is initiating a formal assessment program for ensuring the GAs have security protocols in place to protect the confidentiality and integrity of data entrusted to FSA by students and families. This assessment is designed to identify security deficiencies based on the federal standards described in the National Institute of Standards and Technology publications.

Dated: July 13, 2015.
Kate Mullan,
Acting Director, Information Collection Clearance Division, Office of the Chief Privacy Officer (OCPO), Office of Management.

[FR Doc. 2015-17415 Filed 7-15-15; 8:45 am]

BILLING CODE 4000-01-P